NATIONAL TRANSPORTATION SAFETY BOARD

Sunshine Act Meeting

Time and Date: 9:30 a.m., Tuesday, November 9, 2004.

Place: NTSB Conference Center, 429 L'Enfant Plaza SW., Washington, DC 20594.

Status: The two items are open to the public.

Matters to be Considered: 7673 Highway—Special Investigation Report—Medical Oversight of Noncommercial Drivers.

5299P Most Wanted Safety Recommendations Program—November 2003 Update on Federal Issues.

News Media Contact: Telephone: (202) 314-6100.

Individuals requesting specific accommodations should contact Ms. Carolyn Dargan at (202) 314-6305 by Friday, November 5, 2004.

The public may view the meeting via a live or archived webcast by accessing a link under “News & Events” on the NTSB home page at http://www.ntsb.gov.

FOR FURTHER INFORMATION CONTACT: Vicky D'Onofrio, (202) 314-6410.

Dated: October 29, 2004.
Vicky D'Onofrio,
Federal Register Liaison Officer.

[FR Doc. 04-24556 Filed 10-29-04; 2:04 am]

BILLING CODE 7533-01-M